DEPARTMENT OF TRANSPORTATION

Coast Guard

[CGD17-01-002]

Annual Certification of Prince William Sound Regional Citizen's Advisory Council

AGENCY: Coast Guard, DOT.

ACTION: Notice of recertification.

SUMMARY: Under the Oil Terminal and Tanker Environmental Oversight Act of 1990, the Coast Guard may certify on an annual basis, an alternative voluntary advisory group in lieu of a regional citizens' advisory council for Prince William Sound, Alaska. This certification allows the advisory group to monitor the activities of terminal facilities and crude oil tankers under the Prince William Sound Program established by the statute. The purpose of this notice is to inform the public that the Coast Guard has recertified the alternative voluntary advisory group for Prince William Sound, Alaska.

DATES: This certification is effective from January 31, 2001 to January 31, 2002.

FOR FURTHER INFORMATION CONTACT: For general information regarding the PWS RCAC or viewing material submitted to the docket, contact LT Michael Patterson, Seventeenth Coast Guard District, Marine Safety Division, (907) 463-2807.

SUPPLEMENTARY INFORMATION:

Background and Purpose

As part of the Oil Pollution Act of 1990. Congress passed the Oil Pollution Terminal and Oil Tanker Environmental Oversight and Monitoring Act of 1990, (the Act), section 5002, to foster the long-term partnership among industry, government, and local communities in overseeing compliance with the environmental concerns in the operation of terminal facilities and crude-oil tankers. Subsection 5002(o) permits an alternative voluntary advisory group to represent the communities and interests in the vicinity of the terminal facilities in Prince William Sound (PWS), in lieu of a council of the type specified in subsection 5002(d), if certain conditions are met.

The Act requires that the group enter into a contract to ensure annual funding, and that it receive annual certification by the President to the effect that it fosters the general goals and purposes of the Act, and is broadly representative of the communities and interests in the vicinity of the terminal facilities and Prince William Sound. Accordingly, in 1991, the President granted certification to the Prince William Sound Regional Citizen's Advisory Council (PWS RCAC). The authority to certify alternative advisory groups was subsequently delegated to the Commandant of the Coast Guard and redelegated to the Commander, Seventeenth Coast Guard District.

On June 26, 2001, the Coast Guard announced in the Federal Register the availability of the application for recertification that it received from the PWS RCAC and requested comments (66 FR 33989). Twenty comments were received.

Discussion of Comments

In conducting the review in the recertification process, all comments were considered. Of the comments received, 19 were supportive of recertification and noted the positive efforts, good communication, and broad representation of PWS communities as PWS RCAC carries out its responsibilities as intended by the Act. One commenter recommended the Coast Guard not certify the PWS RCAC because it is not broadly representative of all interests and communities in the area. The following summarizes the Coast Guard's analysis of the issues raised during the review process.

One commenter, representing a native village within Prince William Sound stated that because the village was not represented on the PWS RCAC Board of Directors, the PWS RCAC did not meet the requirements of being broadly representative of the interests and communities in the area. OPA 90 does not require that the PWS RCAC Board of Directors have a formal representative from each tribal village in order to be broadly representative of the PWS community. Upon investigation, it was noted that many members of the village live in a community that is represented on the PWS RCAC Board of Directors and many are members of a Native Corporation that is represented on the board. The PWS RCAC Board of Directors advertises its meetings, moves the meetings to locations throughout PWS, and publicizes the work they perform through the press and a web site in their efforts to ensure all communities throughout PWS are familiar with and have an opportunity to comment on their activities. The Coast Guard does not agree that lack of specific, formal representation of this village on the PWS RCAC Board of Directors indicates that the PWS RCAC is not broadly representative of the communities and interests in the area. However, while there may be areas of commonality between a native village and the larger community and Native Corporations they belong to, the specific concerns of a native village are not always shared by these other entities. The Coast Guard recommends that PWS RCAC contact this village to learn their specific concerns about how the oil terminal and tanker operations affect their village. The Coast Guard also recommends that the village seek membership on the PWS RCAC Board of Directors, consistent with section 2732(d)(A)(2)(iii) of the Act.

Upon review of the information submitted by PWS RCAC as part of the certification package, it was noted that in a routine annual audit of the PWS RCAC's financial statements, the auditor performing the audit made several recommendations for improving the financial management of the organization. In particular, the auditor noted that allowing members to use RCAC funds to cover travel costs when combining official travel and personal travel and then repay the RCAC after the fact for the personal expenditures necessitates increased oversight to ensure RCAC is repaid and additional accounting is properly managed. The auditor recommended against continuing this practice. The Coast Guard agrees and recommends that this change be made prior to the next certification cycle.

During the review period, the Coast Guard was made aware of concerns from within the RCAC of whether PWS RCAC policies for travel and recordkeeping were consistent with best business practices. A review of travel policies identified some areas that could be improved to ensure that the PWS RCAC's administrative costs remain consistent with the goals of OPA 90. Based on this finding and the general concerns raised, the Coast Guard initiated an audit with the full cooperation of PWS RCAC to evaluate PWS RCAC's policies and practices against commonly accepted principles of similarly situated organizations. This audit is currently ongoing. Based on the results, the Coast Guard may have recommendations for PWS RCAC that will need to be implemented before the next annual certification.

Not withstanding the issues described above, the PWS RCAC continues to make great progress on projects that promise to significantly improve oil terminal and tanker operations in PWS, such as the ice radar project, the Valdez Marine Terminal's fire prevention and response system, and work on Geographic Response Strategies.

Upon review of the comments received regarding the PWS RCAC's performance during the past year and the information provided by the RCAC in their annual report and recertification package the Coast Guard finds the PWS RCAC meets the criteria established under the Oil Pollution Act, and that recertification in accordance with the Act is appropriate.

Recertification: By letter dated September 7, 2001, the Commander, Seventeenth Coast Guard certified that the PWSRCAC qualifies as an alternative voluntary advisory group under 33 U.S.C. 2732(o). This recertification terminates on January 31, 2002.

Dated: September 7, 2001.
T. J. Barrett,
Rear Admiral, U.S. Coast Guard, Commander, Seventeenth Coast Guard District.

[FR Doc. 01-23343 Filed 9-18-01; 8:45 am]

BILLING CODE 4910-15-U